DEPARTMENT OF THE INTERIOR

Fish and Wildlife Service

[FWS-R8-ES-2018-N023; FXES11130800000-189-FF08EVEN00]

Low-Effect Habitat Conservation Plan for Endangered Sandhills Species at the Clements Property, Santa Cruz County, California

AGENCY: Fish and Wildlife Service, Interior.

ACTION: Notice of availability; request for comment.

SUMMARY: We, the U.S. Fish and Wildlife Service, have received an application from Ron Clements for a 3-year incidental take permit under the Endangered Species Act of 1973, as amended. The application addresses the potential for “take” of the federally endangered Mount Hermon June beetle and Zayante band-winged grasshopper that is likely to occur incidental to the construction of outdoor recreational facilities at a property near the unincorporated town of Ben Lomond, Santa Cruz County, California. We invite comments from the public on the application package, which includes a low-effect habitat conservation plan.

DATES: To ensure consideration, please send your written comments by May 31, 2018.

ADDRESSES: You may download a copy of the habitat conservation plan, draft environmental action statement and low-effect screening form, and related documents on the internet at http://www.fws.gov/ventura/, or you may request copies of the documents by U.S. mail to our Ventura office or by phone (see FOR FURTHER INFORMATION CONTACT). Please address written comments to Stephen P. Henry, Field Supervisor, Ventura Fish and Wildlife Office, U.S. Fish and Wildlife Service, 2493 Portola Road, Suite B, Ventura, CA 93003. You may alternatively send comments by facsimile to (805) 644-3958.

FOR FURTHER INFORMATION CONTACT: Chad Mitcham, Fish and Wildlife Biologist, by U.S. mail to the Ventura office, or by telephone at (805) 677-3328.

SUPPLEMENTARY INFORMATION: We have received an application from Ron Clements for a 3-year incidental take permit under the Endangered Species Act of 1973, as amended (Act; 16 U.S.C. 1531 et seq.). The application addresses the potential for “take” of the federally endangered Mount Hermon June beetle (Polyphylla barbata) and Zayante band-winged grasshopper (Trimerotropis infantilis) likely to occur incidental to the construction of outdoor recreational facilities at 8225 Ridgeview Drive (APN: 072-441-01), near the unincorporated town of Ben Lomond, Santa Cruz County, California. We invite comments from the public on the application package, which includes a low-effect habitat conservation plan. This proposed action has been determined to be eligible for a categorical exclusion under the National Environmental Policy Act of 1969 (NEPA; 42 U.S.C. 4321 et seq.), as amended.

Background

The U.S. Fish and Wildlife Service (Service) listed the Mount Hermon June beetle and Zayante band-winged grasshopper as endangered on January 24, 1997 (62 FR 3616). Section 9 of the Act and its implementing regulations prohibit the take of fish or wildlife species listed as endangered or threatened. “Take” is defined under the Act to include the following activities: “to harass, harm, pursue, hunt, shoot, wound, kill, trap, capture, or collect, or to attempt to engage in any such conduct” (16 U.S.C. 1532); however, under section 10(a)(1)(B) of the Act, we may issue permits to authorize incidental take of listed species. “Incidental Take” is defined as take that is incidental to, and not the purpose of, the carrying out of an otherwise lawful activity (50 CFR 17.3). Regulations governing incidental take permits for threatened and endangered species are provided at 50 CFR 17.32 and 17.22, respectively. Issuance of an incidental take permit must not jeopardize the existence of federally listed fish, wildlife, or plant species.

Take of listed plants is not prohibited under the Act unless such take would violate State law. As such, take of plants cannot be authorized under an incidental take permit. Plant species may be included on a permit in recognition of the conservation benefits provided them under a habitat conservation plan. All species, including plants, covered by the incidental take permit receive assurances under our “No Surprises” regulations (50 CFR 17.22(b)(5) and 17.32(b)(5)). In addition to meeting other specific criteria, actions undertaken through implementation of the habitat conservation plan (HCP) must not jeopardize the continued existence of federally listed animal or plant species.

Applicant's Proposal

Ron Clements (hereafter, the applicant) has submitted a low-effect HCP in support of his application for an incidental take permit (ITP) to address take of the Mount Hermon June beetle and Zayante band-winged grasshopper that is likely to occur as the result of direct impacts on up to 0.214-acre (ac) (9,319 square feet (sf)) of sandhills habitat occupied by the species. Take would be associated with the construction of outdoor recreational facilities and infrastructure on an existing parcel legally described as Assessor Parcel Number: 072-441-01. The current site address is 8225 Ridgeview Drive, near the unincorporated town of Ben Lomond, Santa Cruz County, California. The applicant is requesting a permit for take of Mount Hermon June beetle and Zayante band-winged grasshopper that would result from “covered activities” that are related to the construction of outdoor recreational facilities.

The HCP's conservation strategy also addresses potential impacts to the federally endangered Ben Lomond spineflower (Chorizanthe pungens var. pungens), which may occur at the proposed project site. A 3-year incidental take permit is requested to authorize take that would occur incidental to the proposed project.

The applicant proposes to avoid, minimize, and mitigate impacts to the Mount Hermon June beetle, Zayante band-winged grasshopper, and Ben Lomond spineflower associated with the covered activities by fully implementing the HCP. The following measures will be implemented: (1) A qualified biologist will collect seed of all Ben Lomond spineflower from within the project footprint for use in restoration of the site following construction activities; (2) if construction occurs during the flight season of the Mount Hermon June beetle (considered to be between May and August, annually), exposed soils will be covered with impervious materials to prevent any dispersing Mount Hermon June beetles from burrowing into exposed soil at the construction site; (3) a qualified biologist will conduct a pre-construction training that will be attended by all on-site construction personnel and those personnel will be directed to cease work and immediately contact a biologist permitted to capture and relocate the subject species if observed in an area to be impacted; (4) new outdoor lighting will feature LED bulbs that emit wavelengths of light that are less attractive for nocturnal insects; (5) following completion of the project, temporarily disturbed areas will be seeded with native sandhills plants to facilitate recolonization by the subject species; and (6) the applicant will permanently protect habitat for the Mount Hermon June beetle, Zayante band-winged grasshopper, and Ben Lomond spineflower through the purchase of 0.531-ac of conservation credits at the Zayante Sandhills Conservation Bank, or from another Service-approved conservation bank. The applicant will fund up to $157,452 to ensure implementation of all minimization measures, monitoring, and reporting requirements identified in the HCP.

In the proposed HCP, the applicant considers two alternatives to the proposed action: “No Action” and “Redesign Project.” Under the “No Action” alternative, an ITP for the proposed project would not be issued. The proposed conservation strategy and the purchase of conservation credits would not be provided to effect recovery actions for the impacted species. The “No Action” alternative would not result in desired improvements to the residence and would not result in benefits for the covered species; therefore, the “No Action” alternative has been rejected. Under the “Redesign Project” alternative, the applicant would reduce the area of proposed improvements by approximately 50 percent, through elimination of components of the planned outdoor recreational facilities. Under this alternative, the applicant would not achieve his desired goals and fewer conservation credits would be purchased to effect recovery; therefore, the “Redesign Project” alternative has also been rejected.

Our Preliminary Determination

The Service has made a preliminary determination that issuance of the incidental take permit is neither a major Federal action that will significantly affect the quality of the human environment within the meaning of section 102(2)(C) of NEPA (42 U.S.C. 4321 et seq.,) nor that it will, individually or cumulatively, have more than a negligible effect on the Mount Hermon June beetle, Zayante band-winged grasshopper, and Ben Lomond spineflower. Therefore, the permit qualifies for a categorical exclusion under NEPA.

Next Steps

We will evaluate the permit application, including the plan and comments we receive, to determine whether the application meets the requirements of section 10(a)(1)(B) of the Act. We will also evaluate whether issuance of the ITP would comply with section 7(a)(2) of the Act by conducting an intra-Service Section 7 consultation.

Public Review

We provide this notice under section 10(c) of the Act and the National Environmental Policy Act of 1969, as amended (NEPA), and NEPA's public involvement regulations (40 CFR 1500.1(b), 1500.2(d), and 1506.6). We are requesting comments on our determination that the applicant's proposal will have a minor or negligible effect on the Mount Hermon June beetle, Zayante band-winged grasshopper, and Ben Lomond spineflower, and that the plan qualifies as a low-effect HCP as defined by our Habitat Conservation Planning Handbook. We will evaluate the permit application, including the plan and comments we receive, to determine whether the application meets the requirements of section 10(a)(1)(B) of the Act. We will use the results of our internal Service consultation, in combination with the above findings, in our final analysis to determine whether to issue the permit. If the requirements are met, we will issue an ITP to the applicant for the incidental take of Mount Hermon June beetle and Zayante band-winged grasshopper. We will make the final permit decision no sooner than 30 days after the date of this notice.

Public Comments

If you wish to comment on the permit applications, plans, and associated documents, you may submit comments by any one of the methods in ADDRESSES.

Public Availability of Comments

Before including your address, phone number, email address, or other personal identifying information in your comment, you should be aware that your entire comment—including your personal identifying information—may be made publicly available at any time. While you can ask us in your comment to withhold your personal identifying information from public view, we cannot guarantee that we will be able to do so.

Authority

We provide this notice under section 10 of the Act (16 U.S.C. 1531 et seq.) and NEPA regulations (40 CFR 1506.6).

Dated: April 24, 2018.
Stephen P. Henry,
Field Supervisor, Ventura Fish and Wildlife Office, Ventura, California.

[FR Doc. 2018-09190 Filed 4-30-18; 8:45 am]

BILLING CODE 4333-15-P